DEPARTMENT OF TRANSPORTATION

Federal Highway Administration

[FHWA Docket No. FHWA-2006-23612]

Surface Transportation Environment and Planning Cooperative Research Program (STEP)

AGENCY: Federal Highway Administration (FHWA), DOT.

ACTION: Notice; request for comments.

SUMMARY: Section 5207 of the Safe, Accountable, Flexible, Efficient Transportation Equity Act: A Legacy for Users (SAFETEA-LU) established the Surface Transportation Environment and Planning Cooperative Research Program (STEP). The general objective of the STEP is to improve understanding of the complex relationship between surface transportation, planning and the environment. SAFETEA-LU provides $16.875 million per year for fiscal years (FY) 2006-2009 to implement this new cooperative research program. Due to obligation limitations, rescissions, and congressional designation of Title V Research in SAFETEA-LU, it is anticipated that approximately $11.9 million of the $16.875 million authorized will be available each fiscal year. The purpose of this notice is to: (1) Announce the creation of an FHWA Web site to provide information regarding the STEP; and (2) to solicit public input on the implementation strategy for this program.

DATES: Comments must be received on or before April 17, 2006.

FOR FURTHER INFORMATION CONTACT: Felicia Young, Office of Interstate and Border Planning, (202) 366-1263, Felicia.young@fhwa.dot.gov; or Grace Reidy, Office of the Chief Counsel, (202) 366-6226; Federal Highway Administration, 400 Seventh Street, SW., Washington, DC 20590. Office hours are from 7:45 a.m. to 4:15 p.m., Monday through Friday, except Federal holidays.

SUPPLEMENTARY INFORMATION:

Electronic Access

You may submit or retrieve comments online through the Document Management System (DMS) at: http://dms.dot.gov/submit. The DMS is available 24 hours each day, 365 days each year. Electronic submission and retrieval help and guidelines are available under the help section of the Web site.

An electronic copy of this notice may be downloaded from the Office of the Federal Register's home page at http://www.archives.gov and the Government Printing Office's Web site at http://www.access.gpo.gov.

Anyone is able to search the electronic form of all comments received into any of our dockets by the name of the individual submitting the comment (or signing the comment, if submitted on behalf of an association, business, labor union, etc.). You may review DOT's complete Privacy Act Statement in a Federal Register published on April 11, 2000 (70FR 19477), or you may visit http://dms.dot.gov.

Background

Section 5207 of the Safe, Accountable, Flexible, Efficient Transportation Equity Act: A Legacy for Users (SAFETEA-LU) (Pub. L. 109-59, Aug. 10 2005), established the Surface Transportation Environment and Planning Cooperative Research Program (STEP), and provided $16.875 million per year for FY2006-FY2009 to implement this new program. The general objective of the STEP is to improve understanding of the complex relationship between surface transportation, planning and the environment.

The FHWA anticipates that approximately $11.9 million of the $16.875 million authorized will be available each year. STEP will also be the sole source of funds available to conduct all FHWA research on planning and environmental issues. In addition, Congress mandated several special studies (i.e. Report on Non Motorized Transportation Pilot Program (Section 1807 of SAFETEA-LU); and the Annual Report for the Surface Transportation Project Delivery Pilot Program (Section 6005(h) of SAFETEA-LU)). STEP will be the funding source for those projects as well.

Section 5207 of SAFETEA-LU identifies certain characteristics of STEP regarding program contents and administration. Regarding the program content, STEP may include research to:

• Develop more accurate models for evaluating transportation control measures and system designs for use by State and local governments to meet environmental requirements;

• Improve understanding of transportation demand factors;

• Develop indicators of economic, social, and environmental performance of transportation systems to facilitate alternatives analysis;

• Meet additional priorities determined through the transportation research and development strategic planning process identified in section 5208 of SAFETEA-LU;

• Refine the scope and research emphases through outreach and in consultation with stakeholders.

In administering the program, the USDOT and FHWA will ensure, to the maximum extent practicable, that:

• The best projects and researchers are selected based on merit, open solicitations, and selection by a panel of appropriate experts;

• Qualified, permanent core staff with ability to manage a large multiyear budget is used;

• Stakeholders are involved in governance of program;

• There is no duplication with the Future Strategic Highway Research Program (Section 5210 of SAFETEA-LU), which will be administered by the National Research Council of the National Academy of Sciences.

The FHWA has had some initial meetings with major stakeholder groups and Federal agency partners to begin receiving input on the governance and strategic direction of STEP, and will continue these discussions in the future.

The FHWA is issuing this notice to: (1) Announce the creation of an FHWA Web site to provide information regarding the STEP; and (2) to solicit public input on the implementation strategy for this program. The Web site URL for the STEP is http://www.fhwa.dot.gov/hep/step/index.htm. The FHWA will use this Web site as a major mechanism for informing the public regarding the status of the STEP.

We invite the public to visit this Web site to obtain additional information regarding the STEP as well as information regarding the process for forwarding comments to FHWA regarding the STEP implementation strategy.

Authority: Section 5207 of Pub. L. 109-59.

Issued on: February 6, 2006.
J. Richard Capka,
Acting Federal Highway Administrator.

[FR Doc. E6-2829 Filed 2-28-06; 8:45 am]

BILLING CODE 4910-22-P